DEPARTMENT OF LABOR

Employment and Training Administration

Apprenticeship Training, Employer and Labor Services; Proposed Collection; Equal Employment Opportunity in Apprenticeship and Training Comment Request

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the collection of the registered apprenticeship programs under Title 29 CFR part 30 (Equal Employment Opportunity in Apprenticeship and Training). A copy of the proposed information collection request (ICR) can be obtained by contacting the office listed below in the addressee section of this notice.

DATES: Written comments must be submitted to the office listed in the addressee's section below on or before May 22, 2001.

ADDRESSES: Anthony Swoope, Administrator, Office of Apprenticeship Training, Employer and Labor Services, 200 Constitution Ave., NW. Room S-1310, Washington, DC 20210; E-mail Internet address: aswoope@doleta.gov; Telephone number: (202) 693-2796 (this is not a toll-free number); Fax number: (202) 693-2808 (this is not a toll-free number).

SUPPLEMENTARY INFORMATION:

I. Background

The National Apprenticeship Act of 1937 authorizes and direct the Secretary of Labor “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education * * *” (29 U.S.C. 50). Section 50a of the Act authorizes the Secretary of Labor to “publish information relating to existing and proposed labor standards of apprenticeship,” and to “appoint national advisory committees * * *” (29 U.S.C. 50a).

Title 29 CFR Part 30 sets forth policies and procedures to promote equality of opportunity in apprenticeship programs registered with the U.S. Department of Labor and recognized State apprenticeship agencies. These policies and procedures apply to recruitment and selection of apprentices, and to all conditions of employment and training during apprenticeship. The procedures provide for review of apprenticeship programs, for registering apprenticeship programs, for processing complaints, and for deregistering noncomplying apprenticeship programs. This part also provides policies and procedures for continuation or withdrawal of recognition of State agencies which register apprenticeship programs for Federal purposes.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

III. Current Actions

Recordkeeping and data collection activities regarding registered apprenticeship are by-products of the registration system. Organizations which apply for apprenticeship sponsorship enter into an agreement with the Federal Government or cognizant State government to operate their proposed programs consistent with 29 CFR part 30. Apprenticeship sponsors are not required to file reports regarding their apprentices other than individual registration and update information as an apprentice moves through their program.

Type of Review: Extension.

Agency: Employment and Training Administration.

Title: Title 29 CFR part 30, Equal Employment Opportunity in Apprenticeship and Training.

OMB Number: 1205-0224 for 29 CFR part 30.

Affected Public: Apprentices, Sponsors, State Apprenticeship Councils or Agencies.

Form: ETA Form 9039.

Total Respondents: See Chart.

Frequency: 1-time basis.

Total Responses: See Chart.

Average Time per Response: See Chart.

Estimated Total Burden Hours: 6,264.

Recordkeeping: Apprenticeship sponsors are required to keep accurate records on recruitment, selection, employment and training activities related to the applicant and/or apprentice and the qualifications of each applicant/apprentice pertaining to determination of compliance with these regulations. Records must be retained, where appropriate, regarding affirmative action plans and evidence that qualification standards have been validated. State Apprenticeship Councils are also obligated to keep adequate records pertaining to determination of compliance with these regulations. All of the above records are required to be maintained for five years. If this information was not required, there would be no documentation that the apprenticeship programs were being operated in a nondiscriminatory manner. Many apprenticeship programs are 4 years or more in duration; therefore, it is important to maintain the records for at least 5 years.

Summary of Burden for 29 CFR Part 30
Section | Total respondents | Frequency | Total responses | Average time/response | Burden
Sec. 30.3 | 1,497 spon. | 1-time | 1,497 | ½ hr./spon. | 749 hrs.
Sec. 30.4 | 112 spon. | 1-time | 112 | 1 hr./spon. | 112 hrs.
Sec. 30.5 | 5,589 spon. | 1-time/applicant | 5,589 | ½ hr./spon. | 2,945 hrs.
30.6 | 50 spon. | 1-time | 50 | 5 hrs./spon. | 250 hrs.
30.8 | 37,425 spon. | 1-time | 37,425 | 1 min./spon | 624 hrs.
30.8 | 30 State Agencies | 1-time/program | 18,713 | 5 min./spon. | 1,559 hrs.
30.11 | 37,425 spon. | 1-time | 37,425 | Handout |
ETA 9039 | 50 appl/appr | 1-time | 50 | ½ hr. | 25 hrs.
30.15 | 30 State Agencies | 1-time | Completed |  |
30.19 | 30 State Agencies | varies. |  |
Total |  |  | 6,051 |  | 6,264 hrs.

Total Burden Cost (capital/startup): 0.

Total Burden Cost (operating/maintaining): 0.

Comments submitted in response to this comment request will be summarized and/or included in the request for Office of Management and Budget approval of the information collection request; they will also become a matter of public record.

Dated: March 19, 2001.
Anthony Swoope,
Administrator, Office of Apprenticeship Training, Employer and Labor Services.

[FR Doc. 01-7322 Filed 3-22-01; 8:45 am]

BILLING CODE 4510-30-P